DEPARTMENT OF THE INTERIOR

National Park Service

Availability of the Draft General Management Plan/Wilderness Study/Draft Environmental Impact Statement, Pictured Rocks National Lakeshore

AGENCY: National Park Service, Interior.

ACTION: Notice.

SUMMARY: Pursuant to the National Environmental Policy Act of 1969, 42 U.S.C. 4332(C), the National Park Service (NPS) announces the availability of a Draft General Management Plan/Wilderness Study/Draft Environmental Impact Statement (EIS) for Pictured Rocks National Lakeshore (PIRO), Michigan.

DATES: There will be a 90-day public review period for comments on this document. Comments on the Draft EIS must be received no later than 90 days after the Environmental Protection Agency publishes its notice of availability in the Federal Register. Consistent with section 3(d)(1) of the Wilderness Act, two public hearings will be held on the draft wilderness study on August 26, from 7-8 p.m. in Munising, Michigan, and August 27, from 7-8 p.m. in Grand Marais, Michigan. In Munising, the meeting will be held in the Community Room of the Munising Community Credit Union at 200 East State Highway M-28. In Grand Marais, the meeting will be held in the Gymnasium of the Burt Township Public School located at 27 Colwell Street.

In addition, public open houses for information about, or to make comment on, the General Management Plan/Wilderness Study/Draft EIS will be held in the region during the comment period. These open houses are scheduled as follows:

August 25: Marquette, Michigan—6 p.m.-8 p.m.—Open House on GMP/WS: Marquette Room, Northern Michigan University, Don H. Bottum University Center, 1401 Presque Isle Avenue, Marquette, Michigan.

August 26: Munising, Michigan—5:30 p.m.-7 p.m.—Open House on GMP/WS: 7 p.m.-8 p.m.—Hearing on Wilderness: Community Room, Munising Community Credit Union, 200 East State Highway M-28, Munising, Michigan.

August 27: Grand Marais, Michigan—5:30 p.m.-7 p.m.—Open House on GMP/WS: 7 p.m.-8 p.m.—Hearing on Wilderness: Gymnasium, Burt Township Public School, 27 Colwell Avenue, Grand Marais, Michigan.

August 28: Lansing, Michigan—12:30 p.m.-2:30 p.m.—Open House on GMP/WS: Holiday Inn South Convention Center, 6820 South Cedar Street, Lansing, Michigan.

August 28, Novi, Michigan—6 p.m.-8 p.m.—Open House on GMP/WS: DoubleTree Hotel Novi, 2700 Sheraton Drive, Novi, Michigan.

These open houses will be announced in the local media and the park's Web site. Information about meeting times and places will be available by contacting the park's headquarters at 906-387-2607, or visiting the park's Web site at http://www.nps.gov/piro/gmp.htm.

ADDRESSES: Copies of the Draft General Management Plan/Wilderness Study/Draft EIS are available by request by writing to Karen Gustin, Superintendent, Pictured Rocks National Lakeshore, P.O. Box 40, Munising, MI 49862-0040, by phone 906-387-2607, or by e-mail message at piro_gmp@nps.gov. The document can be picked-up in person at the park's headquarters at N8391 Sand Point Road, Munising, MI.

FOR FURTHER INFORMATION CONTACT: Karen Gustin, Superintendent, Pictured Rocks National Lakeshore, or by calling 906-387-2607.

SUPPLEMENTARY INFORMATION: The purpose of this wilderness study is to determine if and where lands and waters within PIRO should be proposed for wilderness designation. The study identifies two possible wilderness configurations within the park, including a no wilderness alternative, and evaluates their effects. Based on the findings of this study, a formal wilderness proposal may be submitted to the Director of the NPS for approval and subsequent consideration by the Department of the Interior, the President of the United States, and Congress.

Persons wishing to comment may do so by any one of several methods. They may attend the public hearing or open houses noted above. They may mail comments to Karen Gustin, Superintendent, Pictured Rocks National Lakeshore, P.O. Box 40, Munising, MI 49862-0040, or call the Superintendent at 906-387-2607. They also may comment via e-mail to piro_gmp@nps.gov (include name and return address in the e-mail message). Finally, they may hand-deliver comments to park headquarters at Pictured Rocks National Lakeshore, N8391 Sand Point Road, Munising, MI 49862-0040.

The NPS practice is to make comments, including names and home addresses of respondents, available for public review during regular business hours. Individual respondents may request we withhold their home address from the record, which we will honor to the extent allowable by law. There also may be circumstances in which we would withhold from the record a respondent's identify, as allowable by law. If you wish us to withhold your name and/or address, you must state this prominently at the beginning of your comment. However, we will not consider anonymous comments. We will make all submissions from organizations or businesses, and from individuals identifying themselves as representatives or officials of organizations or businesses, available for public inspection in their entirety.

The responsible official is Mr. Ernest Quintana, Acting Regional Director, Midwest Region.

Dated: July 9, 2003.
Ernest Quintana,
Acting Regional Director, Midwest Region.

[FR Doc. 03-20752 Filed 8-13-03; 8:45 am]

BILLING CODE 4310-H3-P